DEPARTMENT OF TRANSPORTATION

Office of the Secretary

14 CFR Part 382

[OST Docket No. 2002-11473]

RIN 2105-AD04

Reporting Requirements for Disability-Related Complaints

AGENCY: Office of the Secretary, Department of Transportation (DOT).

ACTION: Proposed rule; extension of comment period.

SUMMARY: The Department of Transportation (DOT or Department) hereby extends the comment period on the proposed rule requiring certain foreign and domestic air carriers to report complaints that they receive alleging inadequate accessibility or discrimination on the basis of disability.

DATES: The comment period is extended from April 15, 2002, to June 1, 2002.

ADDRESSES: Comments on this action must refer to the docket and notice numbers cited at the beginning of this document and must be submitted to the Docket Management Facility of the Office of the Secretary (OST), located on the Plaza Level of the Nassif Building at the U.S. Department of Transportation, Room PL-401, 400 Seventh Street, SW., Washington, DC 20590-0001. The DOT Docket Facility is open to the public from 9 a.m. to 5 p.m., Monday through Friday. Comments will be available for inspection at this address and will also be viewable via the dockets link on the Department's web site (www.dot.gov). Commenters who wish the receipt of their comments to be acknowledged should include a stamped, self-addressed postcard with their comments. The Docket Clerk will date-stamp the postcard and mail it back to the commenter.

FOR FURTHER INFORMATION CONTACT: Jonathan Dols, Office of the General Counsel, Department of Transportation, 400 7th Street, SW., Room 4116, Washington, DC 20590, 202-366-6828 (voice), (202) 366-0511 (TTY), 202-366-7152 (fax), or jonathan.dols@ost.dot.gov (email). Arrangements to receive this document in an alternative format may be made by contacting the above named individual.

SUPPLEMENTARY INFORMATION: On March 8, 2002, the Air Transport Association of America (ATA) and the Regional Airline Association (RAA) filed a request to extend to June 1, 2002, the comment period on the Department's proposed rule requiring certain foreign and domestic air carriers to report disability-related complaints (see 67 FR 6892, February 14, 2002). In their request, ATA and RAA stated that they and their members need additional time to analyze the proposed rule, to assess its impact, to devise an appropriate survey, and to develop substantive recommendations. They maintain that additional time will yield more insightful comments that will, in turn, improve the final rule. The Department concurs that an extension of the comment period is necessary to allow members of industry sufficient time to analyze the impact of the proposed rule and determines that this extension would not unduly affect the public's or the government's interest. Moreover, the Department has not received any objection to the extension of time requested by ATA and RAA. Accordingly, the Department finds that this constitutes good cause to extend the comment period on the proposed rule from April 15, 2002, to June 1, 2002.

Issued in Washington, DC this 3rd day of April, 2002, under authority delegated to me by 14 CFR 385.17(c).
Robert C. Ashby,
Deputy Assistant General Counsel for Regulation and Enforcement, U.S. Department of Transportation.

[FR Doc. 02-8552 Filed 4-9-02; 8:45 am]

BILLING CODE 4910-62-P